DEPARTMENT OF LABOR

Mine Safety and Health Administration

Petitions for Modification

The following parties have filed petitions to modify the application of existing safety standards under section 101(c) of the Federal Mine Safety and Health Act of 1977.

1. Kentucky May Coal Company

[Docket No. M-2001-063-C]

Kentucky May Coal Company, 1045 Arnold Fork Road, Kite, Kentucky 41828 has filed a petition to modify the application of 30 CFR 77.214(a) (refuse piles; general) to its Preparation Plant (I.D. No. 15-17338) located in Knott County, Kentucky. The petitioner proposes to fill its Refuse Disposal Fill “A” with refuse generated from its preparation plant in Arnold Fork Kentucky. The petitioner states that Refuse Fill “A” is a combined fill being constructed by the structural shell method, and that proposed modifications to Fill “A” to raise the proposed top of the Fill from elevation 1700 feet to elevation 1750 feet have been submitted to the Barbourville Regional Office for review and approval. The petitioner submits this petition to supplement the modifications since the proposed top of the Fill will now be above an abandoned underground mine face up No. 1, an underground mining operation in the Hazard No. 4 coal Seam that is currently backfilled, and for face-up No. 2 that is constructed for the same mine and also backfilled and the Coal Seam dips toward face-up No. 2. For this reason, a four inch P.V.C. Pipe has been installed in the lowest entry of face-up No. 2 during backfilling operations to prevent the impoundment of water in the old mine works. The petitioner has outlined in this petition specific procedures that would be followed to implement its proposed alternative method. The petitioner asserts that the proposed alternative method would provide at least the same measure of protection as the existing standard.

2. DLR Mining, Inc.

[Docket No. M-2001-064-C]

DLR Mining, Inc., 3065 Airport Road, Indiana, Pennsylvania 15701 has filed a petition to modify the application of 30 CFR 75.350 (air courses and belt haulage entries) to its Nolo Mine (I.D. No. 36-08850) located in Indiana County, Pennsylvania. The petitioner requests a modification of the existing standard to permit belt air to be used to ventilate a working section or sections. The petitioner proposes to install carbon monoxide sensors as an early warning fire detection system in all belt entries used to course air through the belt entry to ventilate active working places. The petitioner states that the sensors would be capable of providing both visual and audible alarm signals. The petitioner asserts that the proposed alternative method would provide at least the same measure of protection as the existing standard.

3. Consol Pennsylvania Coal Company

[Docket No. M-2001-065-C]

Consol Pennsylvania Coal Company, Consol Plaza, 1800 Washington Road, Pittsburgh, Pennsylvania 15241-1421 has filed a petition to modify the application of 30 CFR 75.312(c) and (d) (main mine fan examinations and records) to its Enlow Fork Mine (I.D. No. 36-07416) located in Greene County, Pennsylvania. The petitioner proposes to test automatic closing door(s) and the automatic fan signal device at least every 31 days without shutting down the fan and without removing miners from the mine. The petitioner asserts that the proposed alternative method would provide at least the same measure of protection as the existing standard.

4. Branham & Baker Underground Corp.

[Docket No. M-2001-066-C]

Branham & Baker Underground Corp., P.O. Box 1409, Pikeville, Kentucky 41502 has filed a petition to modify the application of 30 CFR 75.503 (permissible electric face equipment; maintenance) and 30 CFR 18.41(f) (plug and receptacle-type connectors) to its Mine #23 (I.D. No. 15-18368) located in Pike County, Kentucky. The petitioner proposes to use a permanently installed spring-loaded device instead of a padlock on mobile battery-powered equipment to prevent unintentional loosening of battery plugs from battery receptacles and to eliminate hazards associated with difficult removal of padlocks during emergency situations. The petitioner asserts that the proposed alternative method would provide at least the same measure of protection as the existing standard.

5. Long Fork Development, Inc.

[Docket No. M-2001-067-C]

Long Fork Development, Inc., P.O. Box 480, Lovely, Kentucky 41231 has filed a petition to modify the application of 30 CFR 75.503 (permissible electric face equipment; maintenance and 30 CFR 18.41(f) (plug and receptacle-type connectors) to its No. 6 Mine (I.D. No. 15-18385) located in Johnson County, Kentucky. The petitioner proposes to use a permanently installed spring-loaded device instead of a padlock on mobile battery-powered equipment to prevent unintentional loosening of battery plugs from battery receptacles and to eliminate hazards associated with difficult removal of padlocks during emergency situations. The petitioner asserts that application of the existing standard would result in a diminution of safety to the miners and that the proposed alternative method would provide at least the same measure of protection as the existing standard.

6. Energy West Mining Company

[Docket No. M-2001-068-C]

Energy West Mining Company, P.O. Box 310, 15 North Main, Huntington, Utah 84528 has filed a petition to modify the application of 30 CFR 75.364(b)(1) (weekly examination) to its Deer Creek Mine (I.D. No. 42-00121) located in Emery County, Utah. Due to deteriorating roof conditions, deep water, and high roof through the area, the petitioner requests a modification of the existing standard to establish evaluation points instead of traveling an area from the top of the Cowin Raise for a distance of approximately three hundred (300) feet inby the intake air course. The petitioner proposes to establish three input evaluation points and three crosscuts outby the top of the Cowin Raise and to have an examiner check the evaluation points to determine that air is moving in the proper direction; and establish one output evaluation point at the bottom of the Cowin Raise and have the examiner determine that air is moving in the proper direction and take an air reading, and record the date, time, and his/her initials at evaluation point, and record the air reading in a weekly examination book. The petitioner asserts that the proposed alternative method would provide at least the same measure of protection as the existing standard.

7. Consolidation Coal Company

[Docket No. M-2001-069-C]

Consolidation Coal Company, Consol Plaza, 1800 Washington Road, Pittsburgh, Pennsylvania 15241-1421 has filed a petition to modify the application of 30 CFR 75.1002 (location of trolley wires, trolley feeder wires, high-voltage cables and transformers) to its Buchanan No. 1 Mine (I.D. No. 44-04856) located in Buchanan County, Virginia. The petitioner proposes to use high-voltage (4,160-volt) cables inby the last open crosscut. The petitioner asserts that the proposed alternative method would provide at least the same measure of protection as the existing standard.

8. Consolidation Coal Company

[Docket No. M-2001-070-C]

Consolidation Coal Company, Consol Plaza, 1800 Washington Road, Pittsburgh, Pennsylvania 15241-1421 has filed a petition to modify the application of 30 CFR 75.804(a) (underground high-voltage cables) to its Buchanan No. 1 Mine (I.D. No. 44-04856) located in Buchanan County, Virginia. The petitioner proposes to use a high-voltage (4,160-volt) cable with an internal ground check conductor smaller than #10 A.W.G. as part of its longwall mining system. The petitioner asserts that the proposed alternative method would provide at least the same measure of protection as the existing standard.

9. American Energy Corporation

[Docket No. M-2001-071-C]

American Energy Corporation, P.O. Box 5, Alledonia, Ohio 43902 has filed a petition to modify the application of 30 CFR 75.804(a) (underground high-voltage cables) to its Century Mine (I.D. No. 33-01070) located in Belmont County, Ohio. The petitioner proposes to use a high-voltage cable with an internal ground check conductor smaller than No. 10 A.W.G as part of its longwall mining system. The petitioner asserts that the proposed alternative method would provide at least the same measure of protection as the existing standard.

10. American Energy Corporation

[Docket No. M-2001-072-C]

American Energy Corporation, P.O. Box 5, Alledonia, Ohio 43902 has filed a petition to modify the application of 30 CFR 75.1002 (location of trolley wires, trolley feeder wires, high-voltage cables and transformers) to its Century Mine (I.D. No. 33-01070) located in Belmont County, Ohio. The petitioner proposes to use high-voltage (4,160-volt) cables inby the last open crosscut. The petitioner asserts that the proposed alternative method would provide at least the same measure of protection as the existing standard.

11. Mettiki Coal, LLC

[Docket No. M-2001-073-C]

Mettiki Coal, LLC, 293 Table Rock Road, Oakland, Maryland 21550 has filed a petition to modify the application of 30 CFR 75.1002 (location of trolley wires, trolley feeder wires, high-voltage cables and transformers) to its Mettiki Mine (I.D. No. 18-00621) located in Garrett County, Maryland. The petitioner proposes to use high-voltage (2,400-volts) on its longwall face conveyor circuits and its shearer circuits when new longwall equipment is installed and has been inspected by MSHA. The petitioner states that a request will be made to revoke its previously granted petition, docket number M-98-032-C, when or if this petition is granted. The petitioner asserts that the proposed alternative method would provide at least the same measure of protection as the existing standard.

12. San Juan Coal Company

[Docket No. M-2001-074-C]

San Juan Coal Company, P.O. Box 561, Waterflow, New Mexico 87421 has filed a petition to modify the application of 30 CFR 75.1726(a) (performing work from a raised position; safeguards) to its San Juan South Mine (I.D. No. 29-02170) and San Juan Deep Mine (I.D. No. 29-02201) located in San Juan County, New Mexico. The petitioner requests a modification of the existing standard to permit the use of modified scoops to provide an elevated work platform for miners at the San Juan South Mine and the San Juan Deep Mine. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before August 24, 2001. Copies of these petitions are available for inspection at that address.

Dated at Arlington, Virginia this 13th day of July 2001.
David L. Meyer,
Director, Office of Standards, Regulations, and Variances.

[FR Doc. 01-18448 Filed 7-24-01; 8:45 am]

BILLING CODE 4510-43-U